OFFICE OF NATIONAL DRUG CONTROL POLICY

Meeting of the Drug Control Research, Data, and Evaluation Advisory Committee

AGENCY: Office of National Drug Control Policy.

ACTION: Notice of meeting.

SUMMARY: The Drug Control Research, Data, and Evaluation Advisory Committee will meet to conduct ordinary business including discussions concerning the long-term and short-term planning for potential research projects.

DATES: The meeting will be held Wednesday, October 27, 2004 from 10 a.m. to 5 p.m. and Thursday, October 28, 2004 from 9 a.m. to 5 p.m. There will be an opportunity for public comment from 4:30 p.m. to 5 p.m. on Wednesday, October 27, 2004.

ADDRESSES: The meeting will be held at the Office of National Drug Control Policy, 750 17th Street, NW., 5th Floor Conference Room, Washington, DC.

FOR FURTHER INFORMATION CONTACT: Janie Dargan, (202) 395-6714.

Dated: September 17, 2004.
Daniel R. Petersen,
Assistant General Counsel.

[FR Doc. 04-21327 Filed 9-22-04; 8:45 am]

BILLING CODE 3180-02-P